DEPARTMENT OF EDUCATION

Applications for New Awards; National Resource Centers Program for Foreign Language and Area Studies or Foreign Language and International Studies and Foreign Language and Area Studies Fellowships Program

AGENCY: Office of Postsecondary Education, Department of Education.

ACTION: Notice.

SUMMARY: The Department of Education is issuing a notice inviting applications for fiscal year (FY) 2018 for the National Resource Centers (NRC) Program, Catalog of Federal Domestic Assistance (CFDA) number 84.015A, and the Foreign Language and Area Studies Fellowships (FLAS) Program, Catalog of Federal Domestic Assistance (CFDA) number 84.015B.

DATES:

Applications Available: May 25, 2018.

Deadline for Transmittal of Applications: June 25, 2018.

Deadline for Intergovernmental Review: August 23, 2018.

ADDRESSES: For the addresses for obtaining and submitting an application, please refer to our Common Instructions for Applicants to Department of Education Discretionary Grant Programs, published in the Federal Register on February 12, 2018 (83 FR 6003) and available at www.gpo.gov/fdsys/pkg/FR-2018-02-12/pdf/2018-02558.pdf.

FOR FURTHER INFORMATION CONTACT: Timothy Duvall (Africa, International, Middle East, and Russia and Eastern Europe) U.S. Department of Education, 400 Maryland Avenue SW, Room 258-54, Washington, DC 20202-4260. Telephone: (202) 453-7521. Email: timothy.duvall@ed.gov; Carolyn Collins (Canada, Latin America, and Western Europe), Room 258-30, Telephone: (202) 453-7854. Email: carolyn.collins@ed.gov; Cheryl Gibbs (Asia), Room 257-15, Telephone: (202) 453-5690. Email: cheryl.gibbs@ed.gov.

If you use a telecommunications device for the deaf (TDD) or a text telephone (TTY), call the Federal Relay Service (FRS), toll free, at 1-800-877-8339.

SUPPLEMENTARY INFORMATION:

Full Text of Announcement

I. Funding Opportunity Description

Purpose of Programs

National Resource Centers Program

The NRC Program provides grants to institutions of higher education (IHEs) or consortia of IHEs to establish, strengthen, and operate comprehensive and undergraduate centers that will be national resources for: (a) Teaching of modern foreign languages; (b) instruction in fields needed to provide a full understanding of world regions where the modern foreign languages are used; (c) research and training in international studies and international and foreign language aspects of professional and other fields of study; and (d) instruction and research on issues in world affairs.

Foreign Language and Area Studies Fellowships Program

The FLAS Program allocates academic year and summer fellowships to IHEs and consortia of IHEs to assist meritorious undergraduate and graduate students receiving modern foreign language training in combination with area studies, international studies, or the international aspects of professional studies. FLAS fellowships may also assist graduate students engaged in predissertation level study, preparation for dissertation research, dissertation research abroad, or dissertation writing.

Priorities: This notice contains two absolute priorities and two competitive preference priorities for the NRC Program. Absolute Priority 1 is from section 602(e) of the Higher Education Act of 1965, as amended (HEA) (20 U.S.C. 1122(e)). Absolute Priority 2 is from the program regulations (34 CFR 656.23). The competitive preference priorities are from the notice of final priorities for the NRC Program published in the Federal Register on May 30, 2014 (79 FR 31028). This notice also contains two competitive preference priorities for the FLAS Program. Competitive Preference Priority 1 is from the program regulations (34 CFR 657.22) and Competitive Preference Priority 2 is from the notice of final priorities for the FLAS Program published in the Federal Register on May 30, 2014 (79 FR 31031).

NRC Program

Absolute Priorities: For FY 2018, these priorities are absolute priorities for the NRC Program. Under 34 CFR 75.105(c)(3), we consider only applications that meet these priorities.

These priorities are:

Absolute Priority 1.

Applications that provide (1) an explanation of how the activities funded by the grant will reflect diverse perspectives and a wide range of views and generate debate on world regions and international affairs; and (2) a description of how the applicant will encourage government service in areas of national need, as identified by the Secretary, as well as in areas of need in the education, business, and non-profit sectors.

Absolute Priority 2.

Applications that provide for teacher training activities on the language, languages, area studies, or thematic focus of the Center.

Competitive Preference Priorities: For FY 2018, these priorities are competitive preference priorities. Under 34 CFR 75.105(c)(2)(i), we award up to an additional five points depending on how well the application meets Competitive Preference Priority 1, and up to an additional five points depending on how well the application meets Competitive Preference Priority 2. An application may receive a total of up to 10 additional points under the competitive preference priorities.

These priorities are:

Competitive Preference Priority 1—Collaboration with Minority-Serving Institutions (MSIs) or Community Colleges (up to 5 points).

Applications that propose significant and sustained collaborative activities with one or more Minority-Serving Institutions (MSIs) (as defined in this notice) and/or with one or more community colleges (as defined in this notice). These activities must be designed to incorporate international, intercultural, or global dimensions into the curriculum of the MSI(s) or community college(s), and to improve foreign language, area, and intercultural studies or international business instruction at the MSI(s) or community college(s). If an applicant institution is an MSI or a community college, that institution may propose intra-campus collaborative activities instead of, or in addition to, collaborative activities with other MSIs or community colleges.

For the purpose of this priority:

Community college means an institution that meets the definition in section 312(f) of the HEA (20 U.S.C. 1058(f)); or an institution of higher education as defined in section 101 of the HEA (20 U.S.C. 1001) that awards degrees and certificates, more than 50 percent of which are not bachelor's degrees (or an equivalent) or master's, professional, or other advanced degrees.

Minority-Serving Institution (MSI) means an institution that is eligible to receive assistance under sections 316 through 320 of part A of title III, under part B of title III, or under title V of the HEA.

The institutions designated eligible under title III and title V may be viewed at the following link: www2.ed.gov/about/offices/list/ope/idues/eligibility.html.

Competitive Preference Priority 2—Collaborative Activities with Teacher Education Programs (up to 5 points).

Applications that propose collaborative activities with units such as schools or colleges of education, schools of liberal arts and sciences, post-baccalaureate teacher education programs, teacher education programs, and teacher preparation programs on or off the NRC campus. These collaborative activities are designed to support the integration of an international, intercultural, or global dimension and world languages into teacher education, and/or to promote the preparation and credentialing of more foreign language teachers in less commonly taught languages (LCTLs) for which there is a demand for additional teachers to meet existing and expected future kindergarten through grade 12 language program needs.

FLAS Program

Competitive Preference Priorities: For FY 2018, these priorities are competitive preference priorities. Under 34 CFR 75.105(c)(2)(i), we award up to an additional five points depending on how well the application meets Competitive Preference Priority 1, and up to an additional five points depending on how well the application meets Competitive Preference Priority 2. An application may receive a total of up to 10 additional points under the competitive preference priorities.

Competitive Preference Priority 1—FLAS Fellowships for Students who Demonstrate Financial Need (up to 5 points).

Applications that propose to give preference when awarding fellowships to undergraduate students, graduate students, or both, who demonstrate financial need as indicated by the students' expected family contribution, as determined under part F of title IV of the HEA. This need determination will be based on the students' financial circumstances and not on other aid.

The applicant must describe how it will ensure that all fellows who receive such preference show potential for high academic achievement based on such indices as grade point average, class ranking, or similar measures that the institution may determine.

Competitive Preference Priority 2—Academic Year FLAS Fellowships Awarded in the Less Commonly Taught Languages (up to 5 points).

Applications that propose to award at least 25 percent of academic year FLAS fellowships in modern foreign languages other than French, German, and Spanish.

Note: Under 34 CFR 657.22(a), the Secretary may designate specific languages as a priority for the allocation of fellowships. For FLAS Competitive Preference Priority 2, we took into consideration the findings in the recent Modern Language Association of America (MLA) survey ¹ of fall 2016 undergraduate and graduate enrollments in language courses at 2,547 postsecondary institutions in the United States. Of 1,417,921 total enrollments, the three most-studied modern foreign languages included Spanish with 712,240 enrollments or 50 percent; French with 175,667 enrollments or 12 percent; and German with 80,594 enrollments or 6 percent. Together, these three languages represented 968,501 or 68 percent of enrollments. Other languages, with 34,830 enrollments, constituted 25 percent of enrollments for the same period.

¹ Modern Language Association of America, “Enrollments in Languages Other Than English in United States Institutions of Higher Education, Summer 2016 and Fall 2016: Preliminary Report” (February 2018) (p. 13).

The findings in the MLA survey are consistent with the definition of LCTLs used by the Center for Advanced Research on Language Acquisition (CARLA).² CARLA defines LCTLs as “all of the world's languages except English, French, German, and Spanish.”

² Center for Advanced Research on Language Acquisition, University of Minnesota, available at www.carla.umn.edu.

Program Authority: 20 U.S.C. 1122.

Applicable Regulations: (a) The Education Department General Administrative Regulations in 34 CFR parts 75, 76, 77, 79, 81, 82, 84, 86, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474. (d) The regulations in 34 CFR parts 655, 656, and 657. (e) The notices of final priorities for these programs published in the Federal Register on May 30, 2014 (79 FR 31028, 79 FR 31031).

Areas of National Need: In accordance with section 601(c) of the HEA (20 U.S.C. 1121(c)), the Secretary consulted with a wide range of Federal agencies and received recommendations regarding national need for expertise in foreign language and world regions. These agencies' recommendations may be viewed on this web page: www2.ed.gov/about/offices/list/ope/iegps/index.html.

Diverse Perspectives and Areas of National Need: Section 602(e) of the HEA requires that each IHE or consortium of IHEs include the following information in NRC grant applications:

(1) An explanation of how the activities funded by the grant will reflect diverse perspectives and a wide range of views and generate debate on world regions and international affairs; and

(2) A description of how the applicant will encourage government service in areas of national need, as identified by the Secretary, as well as in areas of need in the education, business, and non-profit sectors.

II. Award Information

Type of Award: Discretionary grants.

Estimated NRC Available Funds: $22,743,107.

Africa ($2,370,700); Canada ($425,000); East Asia ($3,467,200); International ($1,655,000); Latin America ($3,482,017); Middle East ($3,375,000); Russia and Eastern Europe ($2,605,000); South Asia ($1,906,340); Southeast Asia ($1,898,850); and Western Europe ($1,558,000).

Estimated Range of Awards: $188,000-$270,000 per year.

Estimated Average Size of Awards: $215,000 per year.

Estimated Number of Awards: 100.

Estimated FLAS Available Funds: $30,343,000.

Africa ($3,357,000); Canada ($349,500); East Asia ($5,419,000); International ($2,454,000); Latin America ($4,456,500); Middle East ($3,526,500); Russia and Eastern Europe ($3,583,500); South Asia ($2,713,500); Southeast Asia ($2,449,500); and Western Europe ($2,034,000).

Estimated Range of Awards: $154,500-$351,000 per year.

Estimated Average Size of Awards: $202,500 per year.

Estimated Number of Awards: 105.

FLAS Fellowship Subsistence Allowances: The subsistence allowance for a graduate student academic year fellowship is $15,000; the subsistence allowance for an undergraduate student academic year fellowship is $5,000. The subsistence allowance for a summer fellowship is $2,500 for graduate and undergraduate students.

FLAS Fellowship Institutional Payments: The institutional payment for a graduate student academic year fellowship is $18,000; the institutional payment for an undergraduate student academic year fellowship is $10,000. The institutional payment for a summer fellowship is $5,000 for graduate and undergraduate students.

Contingent upon the availability of funds and the quality of applications, we may make additional awards in FY 2019 from the list of unfunded applications from these competitions.

Note: The Department is not bound by any estimates in this notice. The estimated range and average size of awards are based on a single 12-month budget period. We may use FY 2018 funds to support multiple 12-month budget periods for one or more grantees.

Project Period: Up to 48 months.

III. Eligibility Information

1. Eligible Applicants: IHEs or consortia of IHEs.

2. a. Cost Sharing or Matching: These programs do not require cost sharing or matching.

b. Supplement-Not-Supplant: The NRC Program involves supplement-not-supplant funding requirements. Under 34 CFR 656.33(b)(3), grant funds may not be used to supplant funds normally used by applicants for purposes of this program.

3. Subgrantees: Under 34 CFR 75.708(b) and (c), a grantee under the NRC Program may award subgrants—to directly carry out project activities described in its application—to the following types of entities: IHEs, non-profit organizations, professional organizations, or businesses. The grantee may award subgrants to entities it has identified in an approved application or that it selects through competition under procedures established by the grantee. However, a grantee under the FLAS Program may not award subgrants to entities to directly carry out project activities described in its application.

4. Other: (a) Reasonable and Necessary Costs: Applicants must ensure that all costs included in the proposed budget are necessary and reasonable to meet the goals and objectives of the proposed project. Any costs determined by the Secretary to be unreasonable or unnecessary will be removed from the final approved budget.

(b) Audits: (i) A non-Federal entity that expends $750,000 or more during the non-Federal entity's fiscal year in Federal awards must have a single or program-specific audit conducted for that year in accordance with the provisions of 2 CFR part 200. (2 CFR 200.501(a).)

(ii) A non-Federal entity that expends less than $750,000 during the non-Federal entity's fiscal year in Federal awards is exempt from Federal audit requirements for that year, except as noted in 2 CFR 200.503 (Relation to Other Audit Requirements), but records must be available for review or audit by appropriate officials of the Federal agency, pass-through entity, and Government Accountability Office (GAO). (2 CFR 200.501(d).)

IV. Application and Submission Information

1. Application Submission Instructions: For information on how to submit an application, please refer to our Common Instructions for Applicants to Department of Education Discretionary Grant Programs, published in the Federal Register on February 12, 2018 (83 FR 6003) and available at www.gpo.gov/fdsys/pkg/FR-2018-02-12/pdf/2018-02558.pdf.

2. Intergovernmental Review: This program is subject to Executive Order 12372 and the regulations in 34 CFR part 79. Information about Intergovernmental Review of Federal Programs under Executive Order 12372 is in the application package for this program.

3. Funding Restrictions: We specify unallowable costs in 34 CFR 656.30(b) and 657.33. We reference additional regulations outlining funding restrictions in the Applicable Regulations section of this notice.

4. Recommended Page Limit: The application narrative (Part III of the application) is where you, the applicant, address the priorities, selection criteria, and application requirements that reviewers use to evaluate your application. We recommend that you (1) limit the application narrative to no more than 50 pages for single institution applications, and to no more than 60 pages for consortia applications and (2) use the following standards:

• A “page” is 8.5″ x 11″, on one side only, with 1″ margins at the top, bottom, and both sides.

• Double space (no more than three lines per vertical inch) all text in the application narrative, except titles, headings, footnotes, quotations, references, and captions. Charts, tables, figures, and graphs in the application narrative may be single spaced and will count toward the recommended page limit.

• Use a font that is either 12 point or larger, or no smaller than 10 pitch (characters per inch). However, you may use a 10-point font in charts, tables, figures, and graphs.

• Use one of the following fonts: Times New Roman, Courier, Courier New, or Arial.

The recommended page limit does not apply to Part I, the Application for Federal Assistance face sheet (SF 424); the supplemental SF 424 form; Part II, Budget Information—Non-Construction Programs (ED 524); the detailed line item budget; Part IV, the assurances and certifications, and the response to section 427 of the General Education Provisions Act; the project abstract, the table of contents, the list of acronyms, the response to the diverse perspectives/areas of need requirements, the NRC/FLAS project profile form, and the appendices (curriculum vitae, course list, performance measure form; letters of support). However, the recommended page limit does apply to all of the application narrative.

5. Award Basis: In determining whether to approve a grant award and the amount of such award, the Department will consider, among other things, the applicant's performance and use of funds under a previous or existing award under any Department program (34 CFR 75.217(d)(3)(ii) and 75.233). In assessing the applicant's performance and use of funds under a previous or existing award, the Secretary will consider, among other things, the outcomes the applicant has achieved and the results of any Departmental grant monitoring, including the applicant's progress in remedying any deficiencies identified in such monitoring.

V. Application Review Information

1. General: For the FY 2018 NRC and FLAS competitions, all applications will be assigned to peer review panels based on the country, thematic focus, international studies, or world region such as Africa, Asia, or the Middle East. All applicant institutions specify their respective categories in their NRC and FLAS applications. The readers who serve on the peer review panels are selected for the specialized area studies, international studies, and modern foreign language expertise needed to review, score, and rank the assigned applications in each distinct category. For the NRC and FLAS competitions, the Department will select applications for funding consideration from each distinct peer review panel based on the ranking of the applications within that panel.

2. Selection Criteria: The maximum score for all of the NRC selection criteria, taken together with the maximum number of points awarded to applicants that address the competitive preference priorities, is 175 points. The maximum score for all of the FLAS selection criteria, taken together with the maximum number of points awarded to applicants that address the competitive preference priorities, is 145 points.

NRC Program

The Secretary uses the following selection criteria from 34 CFR 656.21 to evaluate an NRC application for a comprehensive Center:

(a) Program planning and budget (up to 25 points). The Secretary reviews each application to determine—

(1) The extent to which the activities for which the applicant seeks funding are of high quality and directly related to the purpose of the National Resource Centers Program;

(2) The extent to which the applicant provides a development plan or timeline demonstrating how the proposed activities will contribute to a strengthened program and whether the applicant uses its resources and personnel effectively to achieve the proposed objectives;

(3) The extent to which the costs of the proposed activities are reasonable in relation to the objectives of the program; and

(4) The long-term impact of the proposed activities on the institution's undergraduate, graduate, and professional training programs.

(b) Quality of staff resources (up to 15 points). The Secretary reviews each application to determine—

(1) The extent to which teaching faculty and other staff are qualified for the current and proposed Center activities and training programs, are provided professional development opportunities (including overseas experience), and participate in teaching, supervising, and advising students;

(2) The adequacy of Center staffing and oversight arrangements, including outreach and administration and the extent to which faculty from a variety of departments, professional schools, and the library are involved; and

(3) The extent to which the applicant, as part of its nondiscriminatory employment practices, encourages applications for employment from persons who are members of groups that have been traditionally underrepresented, such as members of racial or ethnic minority groups, women, persons with disabilities, and the elderly.

(c) Impact and evaluation (up to 30 points). The Secretary reviews each application to determine—

(1) The extent to which the Center's activities and training programs have a significant impact on the university, community, region, and the Nation as shown through indices such as enrollments, graduate placement data, participation rates for events, and usage of Center resources; and the extent to which the applicant supplies a clear description of how the applicant will provide equal access and treatment of eligible project participants who are members of groups that have been traditionally underrepresented, such as members of racial or ethnic minority groups, women, persons with disabilities, and the elderly;

(2) The extent to which the applicant provides an evaluation plan that is comprehensive and objective and that will produce quantifiable, outcome-measure-oriented data; and the extent to which recent evaluations have been used to improve the applicant's program;

(3) The degree to which activities of the Center address national needs, and generate information for and disseminate information to the public; and

(4) The applicant's record of placing students into post-graduate employment, education, or training in areas of national need and the applicant's stated efforts to increase the number of such students that go into such placements.

(d) Commitment to the subject area on which the Center focuses (up to 10 points). The Secretary reviews each application to determine the extent to which the institution provides financial and other support to the operation of the Center, teaching staff for the Center's subject area, library resources, linkages with institutions abroad, outreach activities, and qualified students in fields related to the Center.

(e) Strength of library (up to 10 points). The Secretary reviews each application to determine—

(1) The strength of the institution's library holdings (both print and non-print, English and foreign language) in the subject area and at the educational levels (graduate, professional, undergraduate) on which the Center focuses; and the extent to which the institution provides financial support for the acquisition of library materials and for library staff in the subject area of the Center; and

(2) The extent to which research materials at other institutions are available to students through cooperative arrangements with other libraries or on-line databases and the extent to which teachers, students, and faculty from other institutions are able to access the library's holdings.

(f) Quality of the Center's non-language instructional program (up to 20 points). The Secretary reviews each application to determine—

(1) The quality and extent of the Center's course offerings in a variety of disciplines, including the extent to which courses in the Center's subject matter are available in the institution's professional schools;

(2) The extent to which the Center offers depth of specialized course coverage in one or more disciplines of the Center's subject area;

(3) The extent to which the institution employs a sufficient number of teaching faculty to enable the Center to carry out its purposes and the extent to which instructional assistants are provided with pedagogy training; and

(4) The extent to which interdisciplinary courses are offered for undergraduate and graduate students.

(g) Quality of the Center's language instructional program (up to 20 points). The Secretary reviews each application to determine—

(1) The extent to which the Center provides instruction in the languages of the Center's subject area and the extent to which students enroll in the study of the languages of the subject area through programs or instruction offered by the Center or other providers;

(2) The extent to which the Center provides three or more levels of language training and the extent to which courses in disciplines other than language, linguistics, and literature are offered in appropriate foreign languages;

(3) Whether sufficient numbers of language faculty are available to teach the languages and levels of instruction described in the application and the extent to which language teaching staff (including faculty and instructional assistants) have been exposed to current language pedagogy training appropriate for performance-based teaching; and

(4) The quality of the language program as measured by the performance-based instruction being used or developed, the adequacy of resources for language teaching and practice, and language proficiency requirements.

(h) Quality of curriculum design (up to 15 points). The Secretary reviews each application to determine—

(1) The extent to which the Center's curriculum has incorporated undergraduate instruction in the applicant's area or topic of specialization into baccalaureate degree programs (for example, major, minor, or certificate programs) and the extent to which these programs and their requirements (including language requirements) are appropriate for a Center in this subject area and will result in an undergraduate training program of high quality;

(2) The extent to which the Center's curriculum provides training options for graduate students from a variety of disciplines and professional fields and the extent to which these programs and their requirements (including language requirements) are appropriate for a Center in this subject area and result in graduate training programs of high quality; and

(3) The extent to which the Center provides academic and career advising services for students; the extent to which the Center has established formal arrangements for students to conduct research or study abroad and the extent to which these arrangements are used; and the extent to which the institution facilitates student access to other institutions' study abroad and summer language programs.

(i) Outreach activities (up to 20 points). The Secretary reviews each application to determine the extent to which the Center demonstrates a significant and measurable regional and national impact of, and faculty and professional school involvement in, domestic outreach activities that involve—

(1) Elementary and secondary schools;

(2) Postsecondary institutions; and

(3) Business, media, and the general public.

(j) Degree to which priorities are served (up to 10 points). If, under the provisions of § 656.23, the Secretary establishes competitive priorities for Centers, the Secretary considers the degree to which those priorities are being served.

The Secretary uses the following selection criteria from 34 CFR 656.22 to evaluate an NRC application for an undergraduate Center:

(a) Program planning and budget (up to 25 points). The Secretary reviews each application to determine—

(1) The extent to which the activities for which the applicant seeks funding are of high quality and directly related to the purpose of the National Resource Centers Program;

(2) The extent to which the applicant provides a development plan or timeline demonstrating how the proposed activities will contribute to a strengthened program and whether the applicant uses its resources and personnel effectively to achieve the proposed objectives;

(3) The extent to which the costs of the proposed activities are reasonable in relation to the objectives of the program; and

(4) The long-term impact of the proposed activities on the institution's undergraduate training program.

(b) Quality of staff resources (up to 15 points). The Secretary reviews each application to determine—

(1) The extent to which teaching faculty and other staff are qualified for the current and proposed Center activities and training programs, are provided professional development opportunities (including overseas experience), and participate in teaching, supervising, and advising students;

(2) The adequacy of Center staffing and oversight arrangements, including outreach and administration and the extent to which faculty from a variety of departments, professional schools, and the library are involved; and

(3) The extent to which the applicant, as part of its nondiscriminatory employment practices, encourages applications for employment from persons who are members of groups that have been traditionally underrepresented, such as members of racial or ethnic minority groups, women, persons with disabilities, and the elderly.

(c) Impact and evaluation (up to 30 points). The Secretary reviews each application to determine—

(1) The extent to which the Center's activities and training programs have a significant impact on the university, community, region, and the Nation as shown through indices such as enrollments, graduate placement data, participation rates for events, and usage of Center resources; the extent to which students matriculate into advanced language and area or international studies programs or related professional programs; and the extent to which the applicant supplies a clear description of how the applicant will provide equal access and treatment of eligible project participants who are members of groups that have been traditionally underrepresented, such as members of racial or ethnic minority groups, women, persons with disabilities, and the elderly;

(2) The extent to which the applicant provides an evaluation plan that is comprehensive and objective and that will produce quantifiable, outcome-measure-oriented data; and the extent to which recent evaluations have been used to improve the applicant's program;

(3) The degree to which activities of the Center address national needs, and generate information for and disseminate information to the public; and

(4) The applicant's record of placing students into post-graduate employment, education, or training in areas of national need and the applicant's stated efforts to increase the number of such students that go into such placements.

(d) Commitment to the subject area on which the Center focuses (up to 10 points). The Secretary reviews each application to determine the extent to which the institution provides financial and other support to the operation of the Center, teaching staff for the Center's subject area, library resources, linkages with institutions abroad, outreach activities, and qualified students in fields related to the Center.

(e) Strength of library (up to 10 points). The Secretary reviews each application to determine—

(1) The strength of the institution's library holdings (both print and non-print, English and foreign language) in the subject area and at the educational levels (graduate, professional, undergraduate) on which the Center focuses; and the extent to which the institution provides financial support for the acquisition of library materials and for library staff in the subject area of the Center; and

(2) The extent to which research materials at other institutions are available to students through cooperative arrangements with other libraries or on-line databases and the extent to which teachers, students, and faculty from other institutions are able to access the library's holdings.

(f) Quality of the Center's non-language instructional program (up to 20 points). The Secretary reviews each application to determine—

(1) The quality and extent of the Center's course offerings in a variety of disciplines;

(2) The extent to which the Center offers depth of specialized course coverage in one or more disciplines of the Center's subject area;

(3) The extent to which the institution employs a sufficient number of teaching faculty to enable the Center to carry out its purposes and the extent to which instructional assistants are provided with pedagogy training; and

(4) The extent to which interdisciplinary courses are offered for undergraduate students.

(g) Quality of the Center's language instructional program (up to 20 points). The Secretary reviews each application to determine—

(1) The extent to which the Center provides instruction in the languages of the Center's subject area and the extent to which students enroll in the study of the languages of the subject area through programs offered by the Center or other providers;

(2) The extent to which the Center provides three or more levels of language training and the extent to which courses in disciplines other than language, linguistics, and literature are offered in appropriate foreign languages;

(3) Whether sufficient numbers of language faculty are available to teach the languages and levels of instruction described in the application and the extent to which language teaching staff (including faculty and instructional assistants) have been exposed to current language pedagogy training appropriate for performance-based teaching; and

(4) The quality of the language program as measured by the performance-based instruction being used or developed, the adequacy of resources for language teaching and practice, and language proficiency requirements.

(h) Quality of curriculum design (up to 15 points). The Secretary reviews each application to determine—

(1) The extent to which the Center's curriculum has incorporated undergraduate instruction in the applicant's area or topic of specialization into baccalaureate degree programs (for example, major, minor, or certificate programs) and the extent to which these programs and their requirements (including language requirements) are appropriate for a Center in this subject area and will result in an undergraduate training program of high quality; and

(2) The extent to which the Center provides academic and career advising services for students; the extent to which the Center has established formal arrangements for students to conduct research or study abroad and the extent to which these arrangements are used; and the extent to which the institution facilitates student access to other institutions' study abroad and summer language programs.

(i) Outreach activities (up to 20 points). The Secretary reviews each application to determine the extent to which the Center demonstrates a significant and measurable regional and national impact of, and faculty and professional school involvement in, domestic outreach activities that involve—

(1) Elementary and secondary schools;

(2) Postsecondary institutions; and

(3) Business, media and the general public.

(j) Degree to which priorities are served (up to 10 points). If, under the provisions of § 656.23, the Secretary establishes competitive priorities for Centers, the Secretary considers the degree to which those priorities are being served.

FLAS Program

The Secretary uses the following selection criteria from 34 CFR 657.21 to evaluate an institutional application for an allocation of FLAS fellowships:

(a) Quality of staff resources (up to 15 points). The Secretary reviews each application to determine—

(1) The extent to which teaching faculty and other staff are qualified for the current and proposed activities and training programs, are provided professional development opportunities (including overseas experience), and participate in teaching, supervising, and advising students;

(2) The adequacy of applicant staffing and oversight arrangements and the extent to which faculty from a variety of departments, professional schools, and the library are involved; and

(3) The extent to which the applicant, as part of its nondiscriminatory employment practices, encourages applications for employment from persons who are members of groups that have been traditionally underrepresented, such as members of racial or ethnic minority groups, women, persons with disabilities, and the elderly.

(b) Impact and evaluation (up to 25 points). The Secretary reviews each application to determine—

(1) The extent to which the applicant's activities and training programs have contributed to an improved supply of specialists on the program's subject as shown through indices such as undergraduate and graduate enrollments and placement data; and the extent to which the applicant supplies a clear description of how the applicant will provide equal access and treatment of eligible project participants who are members of groups that have been traditionally underrepresented, such as members of racial or ethnic minority groups, women, persons with disabilities, and the elderly;

(2) The extent to which the applicant provides an evaluation plan that is comprehensive and objective and that will produce quantifiable, outcome-measure-oriented data; and the extent to which recent evaluations have been used to improve the applicant's program;

(3) The degree to which fellowships awarded by the applicant address national needs; and

(4) The applicant's record of placing students into post-graduate employment, education, or training in areas of national need and the applicant's stated efforts to increase the number of such students that go into such placements.

(c) Commitment to the subject area on which the applicant or program focuses (up to 10 points). The Secretary reviews each application to determine—

(1) The extent to which the institution provides financial and other support to the operation of the applicant, teaching staff for the applicant's subject area, library resources, and linkages with institutions abroad; and

(2) The extent to which the institution provides financial support to students in fields related to the applicant's teaching program.

(d) Strength of library (up to 10 points). The Secretary reviews each application to determine—

(1) The strength of the institution's library holdings (both print and non-print, English and foreign language) for students; and the extent to which the institution provides financial support for the acquisition of library materials and for library staff in the subject area of the applicant; and

(2) The extent to which research materials at other institutions are available to students through cooperative arrangements with other libraries or on-line databases.

(e) Quality of the applicant's non-language instructional program (up to 20 points). The Secretary reviews each application to determine—

(1) The quality and extent of the applicant's course offerings in a variety of disciplines, including the extent to which courses in the applicant's subject matter are available in the institution's professional schools;

(2) The extent to which the applicant offers depth of specialized course coverage in one or more disciplines on the applicant's subject area;

(3) The extent to which the institution employs a sufficient number of teaching faculty to enable the applicant to carry out its purposes and the extent to which instructional assistants are provided with pedagogy training; and

(4) The extent to which interdisciplinary courses are offered for students.

(f) Quality of the applicant's language instructional program (up to 20 points). The Secretary reviews each application to determine—

(1) The extent to which the applicant provides instruction in the languages of the applicant's subject area and the extent to which students enroll in the study of the languages of the subject area through programs or instruction offered by the applicant or other providers;

(2) The extent to which the applicant provides three or more levels of language training and the extent to which courses in disciplines other than language, linguistics, and literature are offered in appropriate foreign languages;

(3) Whether sufficient numbers of language faculty are available to teach the languages and levels of instruction described in the application and the extent to which language teaching staff (including faculty and instructional assistants) have been exposed to current language pedagogy training appropriate for performance-based teaching; and

(4) The quality of the language program as measured by the performance-based instruction being used or developed, the adequacy of resources for language teaching and practice, and language proficiency requirements.

(g) Quality of curriculum design (up to 20 points). The Secretary reviews each application to determine—

(1) The extent to which the applicant's curriculum provides training options for students from a variety of disciplines and professional fields and the extent to which these programs and their requirements (including language requirements) are appropriate for an applicant in this subject area and result in graduate training programs of high quality;

(2) The extent to which the applicant provides academic and career advising services for students; and

(3) The extent to which the applicant has established formal arrangements for students to conduct research or study abroad and the extent to which these arrangements are used; and the extent to which the institution facilitates student access to other institutions' study abroad and summer language programs.

(h) Foreign language and area studies fellowships awardee selection procedures (up to 15 points). The Secretary reviews each application to determine whether the selection plan is of high quality, showing how awards will be advertised, how students apply, what selection criteria are used, who selects the fellows, when each step will take place, and how the process will result in awards being made to correspond to any announced priorities.

(i) Priorities (up to 10 points). If one or more competitive priorities have been established under § 657.22, the Secretary reviews each application for information that shows the extent to which the Center or program meets these priorities.

Note: Applicants should address these selection criteria only in the context of the program requirements in sections 601 and 602 of the HEA, 20 U.S.C. 1121-1122.

3. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department (34 CFR 100.4, 104.5, 106.4, 108.8, and 110.23).

4. Risk Assessment and Specific Conditions: Consistent with 2 CFR 200.205, before awarding grants under these programs the Department conducts a review of the risks posed by applicants. Under 2 CFR 3474.10, the Secretary may impose specific conditions and, in appropriate circumstances, high-risk conditions on a grant if the applicant or grantee is not financially stable; has a history of unsatisfactory performance; has a financial or other management system that does not meet the standards in 2 CFR part 200, subpart D; has not fulfilled the conditions of a prior grant; or is otherwise not responsible.

5. Integrity and Performance System: If you are selected under this competition to receive an award that over the course of the project period may exceed the simplified acquisition threshold (currently $150,000), under 2 CFR 200.205(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee or subgrantee that is awarded competitive grant funds must have a plan to disseminate these public grant deliverables. This dissemination plan can be developed and submitted after your application has been reviewed and selected for funding. For additional information on the open licensing requirements, please refer to 2 CFR part 3474.20.

4. Reporting: (a) If you apply for a grant under this competition, you must ensure that you have in place the necessary processes and systems to comply with the reporting requirements in 2 CFR part 170, should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

Performance reports for the NRC Program and the FLAS Program must be submitted electronically into the Office of International and Foreign Language Education web-based reporting system, International Resource Information System (IRIS). For information about IRIS and to view the reporting instructions, please go to www.ed.gov/fund/grant/apply/appforms/appforms.html.

(c) Under 34 CFR 75.250(b), the Secretary may provide a grantee with additional funding for data collection analysis and reporting. If a grantee is provided additional funding for this purpose, the Secretary establishes a data collection period.

5. Performance Measures: (a) Under the Government Performance and Results Act of 1993, the following measures will be used by the Department to evaluate the success of the NRC Program:

1. Percentage of priority languages defined by the Secretary of Education taught at NRCs.

2. Percentage of NRC grants teaching intermediate or advanced courses in priority languages as defined by the Secretary of Education.

3. Percentage of NRCs that increased the number of intermediate or advanced level language courses in the priority and/or LCTLs during the course of the grant period.

4. Percentage of NRCs that increased the number of certificate, minor, or major degree programs in the priority and/or LCTLs, area studies, or international studies during the course of the four-year grant period.

5. Percentage of less and least commonly taught languages as defined by the Secretary of Education taught at title VI NRCs.

6. Cost per NRC that increased the number of intermediate or advanced level language courses in the priority and/or LCTLs during the course of the grant period.

(b) The following measures will be used by the Department to evaluate the success of the FLAS Program:

1. Percentage of FLAS-graduated fellows who secured employment that utilizes their foreign language and area studies skills within eight years after graduation, based on the FLAS tracking survey.

2. Percentage of FLAS master's and doctoral graduates who studied priority languages as defined by the Secretary of Education.

3. Percentage of FLAS fellows who increased their foreign language reading, writing, and/or listening/speaking scores by at least one proficiency level.

The information provided by grantees in their performance reports submitted via IRIS will be the source of data for these measures. Reporting screens for institutions can be viewed at:

http://iris.ed.gov/iris/pdfs/NRC.pdf

http://iris.ed.gov/iris/pdfs/FLAS.pdf

6. Continuation Awards: In making a continuation award under 34 CFR 75.253, the Secretary considers, among other things: Whether a grantee has made substantial progress in achieving the goals and objectives of the project; whether the grantee has expended funds in a manner that is consistent with its approved application and budget; and, if the Secretary has established performance measurement requirements, the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: Individuals with disabilities can obtain this document and a copy of the application package in an accessible format (e.g., Braille, large print, audiotape, or compact disc) on request to the program contact persons listed under FOR FURTHER INFORMATION CONTACT.

Electronic Access to This Document: The official version of this document is the document published in the Federal Register. You may access the official edition of the Federal Register and the Code of Federal Regulations via the Federal Digital System at: www.gpo.gov/fdsys. At this site you can view this document, as well as all other documents of this Department published in the Federal Register, in text or PDF. To use PDF you must have Adobe Acrobat Reader, which is available free at the site.

You may also access documents of the Department published in the Federal Register by using the article search feature at: www.federalregister.gov.

Specifically, through the advanced search feature at this site, you can limit your search to documents published by the Department.

Dated: May 22, 2018.
Frank T. Brogan,
Principal Deputy Assistant Secretary and Delegated the Duties of Assistant Secretary, Office of Planning, Evaluation, and Policy Development, Delegated the Duties of the Assistant Secretary, Office of Postsecondary Education.

[FR Doc. 2018-11261 Filed 5-24-18; 8:45 am]

BILLING CODE 4000-01-P